DEPARTMENT OF TRANSPORTATION

Federal Aviation Administration

14 CFR Part 39

[Docket No. 2000-NE-45-AD; Amendment 39-13049; AD 2003-04-01]

RIN 2120-AA64

Airworthiness Directives; Hartzell Propeller Inc., Model HD-E6C-3B/E13890K Propellers

AGENCY: Federal Aviation Administration, DOT.

ACTION: Final rule.

SUMMARY: This amendment adopts a new airworthiness directive (AD), that is applicable to Hartzell Propeller Inc. HD-E6C-3B/E13890K propellers. This amendment requires the reduction of the original hub certified service (fatigue) life from unlimited hours to 37,400 flight hours. This amendment is prompted by a reevaluation by Hartzell Propeller Inc. of the D-5108-( ) original hub service life certification calculations. The actions specified by this AD are intended to prevent fatigue failure of D-5108-( ) hubs, which may result in loss of airplane control.

DATES: Effective March 18, 2003.

ADDRESSES: Information regarding this action may be examined, by appointment, at the Federal Aviation Administration (FAA), New England Region, Office of the Regional Counsel, 12 New England Executive Park, Burlington, MA.

FOR FURTHER INFORMATION CONTACT: Tomaso DiPaolo, Aerospace Engineer, Chicago Aircraft Certification Office, FAA, Small Airplane Directorate, 2300 East Devon Avenue, Des Plaines, IL 60018, telephone; (847) 294-7031, fax; (847) 294-7834.

SUPPLEMENTARY INFORMATION: A proposal to amend part 39 of the Federal Aviation Regulations (14 CFR part 39) to include an AD that is applicable to Hartzell Propeller Inc. HD-E6C-3B/E13890K propellers was published in the Federal Register on September 23, 2002 (67 FR 59483). That action proposed to require the reduction of the original hub certified service (fatigue) life from unlimited hours to 37,400 flight hours. As a result of an in-service occurrence of a cracked hub, Hartzell Propeller Inc. has reevaluated the service (fatigue) life of the D-5108-( ) hub installed in the HD-E6C-3B/E13890K propeller. Hartzell has reduced the original hub certified service (fatigue) life from unlimited hours to 37,400 flight hours. Exceeding this life limit could result in fatigue failure of the hub, which may result in loss of airplane control. The 37,400 flight hour life limit is documented in the Airworthiness Limitations section of Hartzell Manual 161.

Comments

Interested persons have been afforded an opportunity to participate in the making of this amendment. Due consideration has been given to the comments received.

Risk If Life of a Component Is Not Known

One commenter states that the proposal introduces a life limit where there was none previously required. The commenter also states that there is a risk that operators or maintenance organizations may not know the current life of the applicable parts, and that the NPRM does not include any proposal to estimate usage or factoring where the life of a component is not known.

The FAA does not agree. Under 14 CFR 121.380 (a)(2)(ii), each registered certificate holder must keep records of the total time in service of each propeller. The propellers affected by this AD are flown on aircraft used in part 121 operations. Moreover, 14 CFR 121.380 mandates that the records must be retained for an unlimited time and must be transferred with the aircraft. In addition, the Airworthiness Limitations associated with this propeller have always required inspections at prescribed intervals which necessitate that the propeller usage be tracked. Therefore, if a propeller's total time is unknown, then the propeller and the registered certificate holder are not in compliance with the regulations. Presently, the FAA will not pursue policy to approve a general formula for calculating total time on propellers with unknown total times. Please note that the final rule allows for the submittal of data to request and to justify an alternate method of compliance to the AD or an adjustment of the compliance time in the AD.

After careful review of the available data, including the comment noted above, the FAA has determined that air safety and the public interest require the adoption of the rule as proposed.

Economic Analysis

There are approximately 250 Hartzell Propeller Inc. HD-E6C-3B/E13890K propellers of the affected design in the worldwide fleet. The FAA estimates that 140 propellers installed on aircraft of U.S. registry will be affected by this AD, that it will take approximately 30 work hours per propeller to perform the required actions, and that the average labor rate is $60 per work hour. Required parts will cost approximately $20,000 per propeller. Based on these figures, the total cost of the AD to U.S. operators is estimated to be $3,052,000.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-04-01 Hartzell Propeller Inc.: Amendment 39-13049. Docket No. 2000-NE-45-AD.

Applicability: This airworthiness directive (AD) is applicable to Hartzell Propeller Inc., Model HD-E6C-3B/E13890K propellers with D-5108-( ) hubs installed. These propellers are installed on, but not limited to, Fairchild Dornier GmbH 328-100 series airplanes.

Note 1: The parentheses indicate the presence or absence of an additional letter(s) which vary the basic propeller hub model designation. This AD still applies regardless of whether these letters are present or absent on the propeller hub model designation.

Note 2: This AD applies to each propeller identified in the preceding applicability provision, regardless of whether it has been modified, altered, or repaired in the area subject to the requirements of this AD. For propellers that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Compliance with this AD is required as indicated, unless already done.

To prevent fatigue failure of Hartzell D-5108-( ) hubs, which may result in loss of airplane control, do the following:

(a) Remove from service D-5108-( ) hubs before exceeding 37,400 flight hours and replace with a serviceable hub.

(b) After the effective date of this AD, do not install any D-5108-( ) hub that has accumulated 37,400 flight hours.

Alternative Methods of Compliance

(c) An alternative method of compliance or adjustment of the compliance time that provides an acceptable level of safety may be used if approved by the Manager, Chicago Aircraft Certification Office (ACO). Operators must submit their request through an appropriate FAA Principal Maintenance Inspector, who may add comments and then send it to the Manager, Chicago ACO.

Note 3: Information concerning the existence of approved alternative methods of compliance with this airworthiness directive, if any, may be obtained from the Chicago ACO.

Special Flight Permits

(d) Special flight permits may be issued in accordance with §§ 21.197 and 21.199 of the Federal Aviation Regulations (14 CFR 21.197 and 21.199) to operate the aircraft to a location where the requirements of this AD can be done.

Effective Date

(e) This amendment becomes effective on March 18, 2003.

Issued in Burlington, Massachusetts, on February 4, 2003.
Jay J. Pardee,
Manager, Engine and Propeller Directorate, Aircraft Certification Service.

[FR Doc. 03-3309 Filed 2-10-03; 8:45 am]

BILLING CODE 4910-13-P